DEPARTMENT OF TRANSPORTATION

Federal Aviation Administration

MilSpec Products, Inc. Supplemental Type Certificates SA03105AT, SA03108AT, SA03109AT, SA03066AT, SA03084AT, SA03110AT.

AGENCY: Federal Aviation Administration (FAA), Transportation (DOT).

ACTION: Notice of surrendered supplemental type certificates.

SUMMARY: This notice announces that MilSpec Products, Inc. has surrendered to the FAA supplement type certificates SA03105AT, SA03108AT, SA03109AT, SA03066AT, SA03084AT, and SA03110AT. This action is intended to inform all aircraft owners who may possess a product affected by these surrendered certificates.

FOR FURTHER INFORMATION CONTACT: Send correspondence on this issue to: Federal Aviation Administration, Atlanta Aircraft Certification Branch, 1701 Columbia Avenue, College Park, GA 30337. ATTN: Eric Potter. You may also contact Eric Potter by phone at (404) 474-5553, or electronically at Eric.Potter@faa.gov.

SUPPLEMENTARY INFORMATION: This notice informs the public that on February 12, 2020, the FAA accepted for surrender several supplemental type certificates (STC) held by MilSpec Products, Inc. By letter received October 25, 2019, MilSpec Products, Inc. notified the FAA that it is voluntarily surrendering the following STCs:

STC # | Description of type design change | Products
SA03105AT | Manufacture of engine cowling fasteners | Cessna (type certificate now held by Textron Aviation Inc.) Models 150, 150A, 150B, 150C, 150D, 150E, 150F, 150G, 150H, 150J, 150K, 150L, and 150M airplanes.
SA03108AT | Manufacture of engine cowling fasteners | Cessna (type certificate now held by Textron Aviation Inc.) Model 177 airplanes.
SA03109AT | Manufacture of engine cowling fasteners | Cessna (type certificate now held by Textron Aviation Inc.) Models 180, 180A, 180B, and 180C airplanes.
SA03066AT | Manufacture of engine cowling fasteners | Beech (type certificate now held by Textron Aviation Inc.) Models 35-33, 35-A33, 35-B33, 35-C33, 35-C33A, E33, E33A, E33C, F33, F33A, F33C, G33, H35, G36, J35, K35, M35, N35, P35, S35, V35, V35A, V35B, 36, A36, A36TC, and B36TC airplanes.
SA03084AT | Manufacture of engine cowling fasteners | Cessna (type certificate now held by Textron Aviation Inc.) Models 172, 172A, 172B, 172C, 172D, 172E, 172F (USAF T-41A), 172G, 172H (USAF T-41A), 172I, 172K, 172L, 172M, 172N, 172P, 172Q, 172R, 172S, 175, 175A, 175B, 175C, P172D, R172E (USAF T-41B) and (USAF T-41C or D), R172F (USAF T-41D), R172G (USAF T-41C or D), R172H (USAF T-41D), R172J, R172K, and 172RG airplanes.
SA03110AT | Manufacture of engine cowling fasteners | Cessna (type certificate now held by Textron Aviation Inc.) Models 182, 182A, 182B, 182C, 182D, 182E, 182F, 182G, 182H, 182J, 182K, 182L, 182M, 182N, 182P, 182Q, 182R, R182, T182, TR182, 182S, T182T, and 182T airplanes.

Surrender of an STC is a final action. These STCs cannot be reissued to MilSpec Products, Inc. or any third party. Completion of the surrender process terminates all of the design approval holder's privileges and responsibilities associated with these STCs. However, the surrender of these STCs does not affect the airworthiness certificates of existing airplanes with these STCs installed.

Authority: 49 U.S.C. 106(g), 44701-44702, 44704.

Issued in Kansas City, MO on August 17, 2020.
Pat Mullen,
Manager, Small Airplane Standards Branch, Policy and Innovation Division, Aircraft Certification Service.

[FR Doc. 2020-18324 Filed 8-20-20; 8:45 am]

BILLING CODE 4910-13-P